DEPARTMENT OF COMMERCE

National Oceanic and Atmospheric Administration

RIN 0648-XD652

Recommendations of the Presidential Task Force on Combating Illegal, Unreported and Unregulated Fishing and Seafood Fraud

AGENCY: National Marine Fisheries Service (NMFS), National Oceanic and Atmospheric Administration (NOAA), Commerce.

ACTION: Notice; request for comments.

SUMMARY: On June 17, 2014, the White House released a Presidential Memorandum entitled “Establishing a Comprehensive Framework to Combat Illegal, Unreported, and Unregulated Fishing and Seafood Fraud.” Among other actions, the Memorandum established a Presidential Task Force on Combating Illegal, Unreported, and Unregulated Fishing and Seafood Fraud (Task Force), co-chaired by the Departments of State and Commerce with twelve other Federal agency members: the Council on Environmental Quality, Departments of Agriculture, Defense, Health and Human Services, Homeland Security, Interior, Justice, the Federal Trade Commission, the Office of Management and Budget, the Office of Science and Technology Policy, the U.S. Agency for International Development, the National Security Council and the U.S. Trade Representative. The Task Force is directed to report to the President within 180 days with “recommendations for the implementation of a comprehensive framework of integrated programs to combat IUU fishing and seafood fraud that emphasizes areas of greatest need.” Those recommendations have now been provided to the President through the National Ocean Council. This is a request for comments from the public to advise the Task Force on how to most effectively implement these recommendations. Specific questions are posed after some of the recommendations to help elicit feedback on potential implementation issues and concerns which will help inform development of an implementation plan in the months ahead.

DATES: Comments must be received by January 20, 2015.

ADDRESSES: You may submit comments on this document, identified by NOAA-NMFS-2014-0090, by any of the following methods:

• Electronic Submission: Submit all electronic public comments via the Federal e-Rulemaking Portal. Go to www.regulations.gov/#!docketDetail;D=NOAA-NMFS-2014-0090, click the “Comment Now!” icon, complete the required fields, and enter or attach your comments.

• Mail: Submit written comments to Carrie Selberg, 1315 East-West Highway; Silver Spring, Maryland 20910.

Instructions: Comments sent by any other method, to any other address or individual, or received after the end of the comment period, may not be considered by the Task Force. All comments received are a part of the public record and will generally be posted for public viewing on www.regulations.gov without change. All personal identifying information (e.g., name, address, etc.), confidential business information, or otherwise sensitive information submitted voluntarily by the sender will be publicly accessible. The Task Force will accept anonymous comments (enter “N/A” in the required fields if you wish to remain anonymous). Attachments to electronic comments will be accepted in Microsoft Word, Excel, or Adobe PDF file formats only.

FOR FURTHER INFORMATION CONTACT: Carrie Selberg, (301) 427-8021.

SUPPLEMENTARY INFORMATION:

I. Background

The United States is a global leader in sustainable seafood. Over the course of the last six years, the United States has largely ended overfishing in federally managed waters and successfully rebuilt a record number of overfished stocks, with both overfishing and overfished fish stocks at all-time lows. Effective management and enforcement of domestic fishing regulations has supported near record highs in both landings and revenue for our domestic fishing industries. As a result, the United States' approach of science-based fisheries management is recognized internationally as a model for ending overfishing and implementing sustainable fisheries management practices.

One of the biggest global threats to the sustainable management of the world's fisheries is illegal, unreported, and unregulated (IUU) fishing. IUU fishing occurs both within nations' waters and on the high seas and undermines the biological and economic sustainability of fisheries both domestically and abroad. IUU fishing in other parts of the world can cause problems in places where there are strong rules managing fisheries, such as the United States. By circumventing conservation and management measures and cutting or avoiding the operational costs associated with sustainable fishing practices and harvesting levels, entities engaged in IUU fishing undermine the sustainability of fish stocks and the broader ecosystem. Further, IUU fishers gain an unfair advantage in the marketplace over law-abiding fishing operations as they do not pay the true cost of sustainable production. Global losses attributable to IUU fishing have been estimated to be between $10-23 billion annually. Additionally, U.S. efforts to reduce global hunger, malnutrition, and coastal risks are being undermined by IUU fishing in developing countries. Over 2.5 billion people depend upon fish for food and nutrition, and IUU and unsustainable fishing threatens valuable food resources. Combating IUU fishing will directly contribute to U.S. commitments and efforts to enhance global food and nutrition security.

A number of factors including complex trade systems, comingling, and broad geographic distribution contribute to difficulties in documenting the chain of custody for fish and seafood products. According to the United Nations' Food and Agriculture Organization, fish and seafood products are among the most widely traded food commodities in the world. Additionally, some seafood is comingled in the global supply chain as part of processing and distribution. Once a shipment of seafood enters U.S. commerce, it is often distributed widely making it difficult to document the chain of custody and guarantee that the product reaching the consumer has been legally harvested or is in fact the product it is claimed to be.

While not necessarily related to IUU fishing, seafood fraud (whereby fish is mislabeled with respect to its species or country of origin, quantity, or quality) has the potential to undermine the economic viability of U.S. and global fisheries as well as the ability of consumers to make informed purchasing choices. Seafood fraud can occur at any point along the seafood supply chain from harvest to market. It can be driven by diverse motives, from covering up IUU fishing to avoiding duties, to increasing a profit margin through species substitution or falsification of the country of origin. While it is difficult to know the extent of seafood fraud, the frequency of seafood fraud incidents has received increasing attention in peer-reviewed journals, government reports and private sector reports. Seafood fraud threatens consumer confidence, serving to further undermine the reputation and market competitiveness of law-abiding fishers and businesses in the seafood industry.

A number of challenges exist with respect to information collection, sharing, and analysis in support of federal efforts to combat IUU fishing and seafood fraud: (1) A vast industry with a large quantity of international and domestic trade; (2) multiple Federal agencies responsible for regulating only a part of this trade and only for particular issues (e.g., food labeling and fishing violations); (3) disparate information collection abilities and requirements among those agencies with no specific common collection, analysis or sharing mechanism; (4) federal jurisdiction not including the entire supply chain as states manage their own fisheries and generally have primary jurisdiction over intrastate sales, including most retail and restaurant sales; (5) statutory constraints on the use and sharing of some information collected by the federal government; and (6) weak institutions and poor data collection and management in some source countries.

It is in the interest of the United States to promote a comprehensive framework that supports sustainable fishing practices while combating seafood fraud and the sale of IUU seafood, including by improving the transparency and traceability of the seafood supply chain. To achieve these objectives, the United States will need to improve implementation of and enhance and broaden the tools it has available to combat IUU fishing and seafood fraud. The Task Force was established to identify and achieve these objectives.

The Task Force initiated a public engagement process to gain broad input to inform and advise development of these recommendations. This process included two public meetings, two webinars, input from 32 countries, and a public comment period noticed in the Federal Register. The Task Force also began to analyze the federal government's existing authorities to combat IUU fishing and seafood fraud, and identify potential gaps in those authorities. Furthermore, it examined specific areas for improved coordination among the Task Force agencies regarding these issues.

Based on this public engagement process and the Task Force's analysis of existing authorities, gaps in those authorities, and current and potential levels of interagency coordination, the Task Force developed recommendations designed to enhance the tools we have available to combat IUU fishing and seafood fraud. Doing so will level the playing field for legitimate fishers and businesses in the seafood industry and increase consumer confidence in seafood sold in the United States.

Recommendations by the Task Force fall under four general themes:

• International: Combat IUU fishing and seafood fraud at the international level;

• Enforcement: Strengthen enforcement and enhance enforcement tools to combat IUU fishing and seafood fraud;

• Partnerships: Create and expand partnerships with state and local governments, industry, and non-governmental organizations to identify and eliminate seafood fraud and the sale of IUU seafood in U.S. commerce; and

• Traceability: Create a risk-based traceability program to track seafood from harvest to entry into U.S. commerce to prevent entry of illegal product into the supply chain and better inform retailers and consumers.

II. Recommendations

Comment is generally sought on how to implement the following recommendations. Specific questions intended to elicit comment are listed below some of the recommendations. Proposed timeframes have been specified in some of the recommendations discussed below.

International: Combat IUU fishing and seafood fraud at the international level

1. The 2009 Agreement on Port State Measures to Prevent, Deter and Eliminate Illegal, Unreported and Unregulated Fishing (PSMA) is the first binding global instrument focused specifically on combating IUU fishing. The PSMA sets minimum standards for the conduct of port inspections and the training of inspectors to prevent IUU seafood products from entering commercial markets. The PSMA also requires port States to prevent entry into or use of ports by vessels that have engaged in IUU fishing, except for the purpose of inspection or other enforcement actions. The PSMA requires 25 ratifications to enter into force; to date there are 11. The U.S. Senate provided its advice and consent to ratification of the PSMA in 2014. Before the United States can deposit its instrument of ratification, however, Congress must pass legislation to implement U.S. obligations under the PSMA. Recommendation: Work with Congress to pass implementing legislation for the Port State Measures Agreement (PSMA). Direct the Secretary of State to promote entry into force and full implementation of the PSMA.

2. Many fisheries that exist in the waters of several nations and/or on the high seas are managed by Regional Fisheries Management Organizations (RFMOs). RFMOs have sought to promote compliance with the management measures they have adopted using a wide variety of tools. Drawing on experience gained from participation in various RFMOs, the United States is in a position to identify the best practices for combating IUU fishing through RFMOs and promote the adoption of such practices in all RFMOs in which the United States participates. Some examples include:

(A) Several RFMOs, including the International Commission for the Conservation of Atlantic Tunas and the Commission for the Conservation of Antarctic Marine Living Resources, have developed catch documentation and trade tracking requirements that enable governments to monitor the movement of fish and fish products through international commerce. The United States should develop, in collaboration with RFMOs, foreign governments, and other intergovernmental organizations, best practices for electronic systems that collect catch information and that track data across harvest and transport vessels and fisheries management agencies—these should include uniform data elements such as harvest vessel, species name, gear type, and region of catch. Best practices should also include interoperability among U.S. domestic and foreign national-level documentation and data tracking systems, with a view to avoiding duplication with existing systems.

(B) Article 21 of the 1995 United Nations Fish Stocks Agreement (UNFSA) establishes a reciprocal high seas boarding and inspection regime that is a critical tool for greater cooperation in enforcement of RFMO-adopted conservation and management measures. Under this regime, any UNFSA Party, including the United States, that is a member of an RFMO can board and inspect the fishing vessels of any other UNFSA Party in high seas areas covered by and subject to measures adopted by that RFMO, collect information on any apparent violations of applicable fisheries management measures, and provide this information to the flag State or relevant RFMOs for follow-up action. To date only the Western and Central Pacific Fisheries Commission (WCPFC) has implemented measures to the full extent outlined in UNFSA. The United States should continue to call upon additional RFMOs to which it is a party to follow the lead of the WCPFC, putting particular pressure on other UNFSA parties to support such efforts, reminding them of their obligations under the UNFSA, while reserving the right of the United States to use its authority deriving from UNSA to conduct high seas boardings and inspections.

(C) Many RFMOs require vessels above a minimum size to carry satellite-based vessel monitor systems (VMS) that enable at least the flag States to monitor the position of vessels at sea on a real-time basis. The United States should develop, in collaboration with RFMOs, foreign governments, and other intergovernmental organizations, best practices for implementation of vessel monitoring systems across all types of commercial fishing vessels and those vessels engaged in the fisheries supply chain (including transshipment and processing vessels). The United States should also seek expansion of international vessel-tracking requirements to include, where appropriate, the use of Automatic Identification System (AIS), VMS, innovative and low-cost technology suitable for small vessels, and updated technical standards to improve reporting frequency and accessibility of vessel position data.

(D) The United Nations Food and Agriculture Organization (FAO) has been working to develop a Global Record of Fishing Vessels and Fishing Support Vessels. The United States should continue to support the FAO's design and implementation of Phase One of the Global Record of Fishing Vessels (vessels greater than or equal to 100GT, 100GRT, or 24m) to ensure that implementation is accomplished as soon as possible. At the same time, the United States should continue to advance measures in the RFMOs to require International Maritime Organization (IMO) numbers for all eligible vessels, and to work with the IMO and other relevant organization to expand the category of commercial vessels that are eligible for IMO numbers, to ensure that all commercial fishing vessels can be tracked even as they change owners, flags, or names.

Recommendation: Direct the Task Force to develop, within one year (and refined as appropriate in subsequent years), best practices for catch documentation and data tracking; high seas boarding and inspection; monitoring, control, and surveillance measures (including observer programs, vessel tracking systems, authorized vessel lists); port state control; and compliance monitoring and promote their adoption in each of the Regional Fishery Management Organizations (RFMOs) of which the U.S. is a member.

Question: Are there any categories of best practices to be developed by the U.S. government missing from the list above?

3. Various U.S. government agencies are engaged in initiatives with foreign governments to support broader maritime domain awareness such as regional law enforcement activities to counter trafficking of people, drugs or weapons. IUU fishing should be included in these activities to capitalize upon current efforts and resources and foster comprehensive maritime domain awareness. Recommendation: Direct the Secretaries of Defense and Homeland Security to include IUU fishing threat analysis and monitoring as a component of U.S. and international efforts to increase overall maritime domain awareness.

Question: What regions or fisheries should be prioritized for threat analysis and monitoring? What technical tools or analytical approaches are most needed?

4. The vast majority of U.S. Free Trade Agreements (FTAs) contain obligations that require U.S trading partners to “effectively enforce” their environmental and labor laws, including laws that protect and conserve natural resources, such as marine fisheries, and that protects certain internationally recognized labor rights. These obligations are subject to dispute settlement under the trade agreement, and the U.S. Trade Representative has authority to monitor and review implementation of these and other FTA commitments. The United States is currently seeking commitments in two FTAs, the Trans-Pacific Partnership (TPP) and the Transatlantic Trade and Investment Partnership (TTIP), to address IUU fishing activities. Further, looking beyond existing negotiations and to future agreements, it will be important to pursue commitments from trading partners to effectively enforce conservation and management measures they have adopted pursuant to RFMOs. Recommendation: Direct the U.S. Trade Representative to use existing Free Trade Agreements and future FTAs to combat IUU fishing and seafood fraud, including through enhanced cooperation with our trading partners and commitments to enforce environmental and labor laws.

5. Some governments continue to provide subsidies to their fisheries sectors that encourage overfishing or contribute to excess capacity of fishing fleets. Such subsidies also undermine the effectiveness of fisheries management regimes and can contribute to IUU fishing. Recommendation: Direct the U.S. Trade Representative, and the Secretaries of State and Commerce to pursue international commitments to eliminate fisheries subsidies that contribute to excess fishing capacity, overfishing and IUU fishing by 2020.

6. Especially in developing nations, increased national-level capacity is needed to strengthen fisheries governance and transparency, implement the Port State Measures Agreement (PSMA), enforce fisheries laws, and prosecute fisheries violations and related criminal activities. Nations that register fishing and support vessels need the capacity to exercise their responsibilities as flag States, which include issuing fishing authorizations, monitoring fishing and transshipment at sea, conducting enforcement operations, inspecting vessels dockside, and monitoring landings. Improved technological infrastructure is needed for collecting information on vessels and catch to enable effective enforcement, support traceability schemes, and foster sustainable fisheries management. Efforts to combat IUU fishing and seafood fraud need to be integrated with international development activities, in particular food security dialogues and programs. Recommendation: Direct the Secretaries of Commerce, Defense, Homeland Security, State, the Administrator of USAID, and the Attorney General to coordinate with donors, multilateral institutions and foreign governments and prioritize building capacity to sustainably manage fisheries, combat IUU fishing and seafood fraud.

Question: What are the best ways to coordinate in capacity building efforts? In which countries and what types of capacity building activities would have the most impact?

7. Efforts to address development or governance issues related to sustainable fisheries benefit greatly from the active support of and coordination with senior government officials through diplomatic channels, engagement in future oceans conferences, and engagement in influential regional fora. Building these key relationships will further encourage our foreign government partners to enhance their efforts to combat IUU fishing as well as work with U.S. investigative agencies to ensure that illegally caught or fraudulently labeled seafood does not enter commerce. Recommendation: Direct the Secretary of State to maintain combating IUU fishing and seafood fraud as a diplomatic priority in order to gain the support of senior officials in priority countries to enhance political will for combatting IUU fishing and seafood fraud.

Enforcement: Strengthen Enforcement and Enhance Enforcement Tools To Combat IUU Fishing and Seafood Fraud

8. Obtaining and sharing information is another critical element in preventing IUU or fraudulently labeled seafood (including false labels, fraudulent customs declarations, and other similar actions) from entering U.S. commerce (whether from domestic or foreign sources). Mechanisms to gather, share, and analyze information on goods entering the United States exist among relevant administrative and law enforcement agencies, including through Customs and Border Protection's Commercial Targeting and Analysis Center, Immigration and Customs Enforcement's Homeland Security Investigations Trade Transparency Unit, and through forensic capabilities across the Federal government. However, certain gaps concerning collection, sharing, and analysis of fisheries-related information remain. Recommendation: Direct the Task Force members, to include the Secretaries of Agriculture, Commerce, Health and Human Services, Homeland Security, the Interior, and the Attorney General to develop within 180 days a strategy with implementation deadlines to optimize the collection, sharing, and analysis of information and resources to prevent IUU or fraudulently labeled seafood from entering U.S. commerce. This strategy should include a plan to increase support and coordination across agencies for forensic analysis of seafood species and corresponding collection, archiving and analysis of related reference specimens, as well as reflect efforts to increase coordination with state and local governments per Recommendation 11.

Question: Which key actions should be included in this strategy?

9. Broader customs enforcement tools can also continue to be leveraged to combat IUU fishing and seafood fraud. The U.S. has now signed over 70 Customs Mutual Assistance Agreement (CMAAs) with other customs administrations across the world. CMAAs are bilateral agreements between countries and are effectuated by their respective customs administrations. They provide the legal framework for the cooperation and exchange of information and evidence to assist countries in the enforcement of customs laws, including duty evasion, fraud, smuggling, trafficking, proliferation, money laundering, and terrorism-related activities. CMAAs can be used to support IUU fishing and seafood fraud investigations, facilitate risk-based targeting of illicit seafood shipments, and for further cooperation with foreign governments to develop best practices to prevent IUU or fraudulent seafood from reaching our borders. Recommendation: Direct the Secretary of Homeland Security to leverage existing and future CMAAs to exchange relevant information and encourage foreign customs administrations to cooperate in combating IUU fishing and seafood fraud.

10. Standardizing rules across the U.S. government concerning how to properly identify a seafood product's species, common name and origin would better support detection and enforcement efforts to combat IUU fishing and seafood fraud. Standardization of this information would minimize opportunities to avoid detection by exploiting inconsistencies across Federal agencies and ambiguities in existing requirements and industry conventions. Standardized rules would also promote better industry compliance and reduce inadvertent noncompliance by providing clearer guidance to industry about how to properly identify fish and seafood, including their origin. Recommendation: Direct the Secretaries of Agriculture, Commerce, Health and Human Services, and Homeland Security, with input from the Attorney General, to standardize and clarify rules on identifying the species, common name, and origin of seafood. Direct the Secretaries of Commerce and Homeland Security and the U.S. Trade Representative to work with the International Trade Commission to adjust U.S. tariff codes to enhance identification in trade of species subject to IUU fishing or seafood fraud accordingly. The agencies should aim to publish these revised rules and adjusted codes not later than one year after the adoption of this recommendation.

Questions: What seafood products could benefit most from clarification of species, common name and rules of origin? What revisions to the tariff codes (at the level than can be adjusted for U.S. statistics) could help address seafood fraud and facilitate monitoring of species that may be harvested in IUU fisheries?

11. State and local enforcement authorities have an important role in regulating fisheries, both through enforcement in state waters and working with the National Oceanic and Atmospheric Administration (NOAA) on landings of fish harvested in federal waters. The National Oceanic and Atmospheric Administration works with state and local authorities to obtain and share information with respect to domestic fisheries. State and local enforcement authorities also have an important role in detecting and preventing seafood fraud, since intrastate seafood sales, including those at the restaurant and retail level, are largely regulated by state and local authorities. Recommendation: Direct the Secretaries of Agriculture, Commerce, Health and Human Services, and Homeland Security, and the Attorney General to work with state and local enforcement authorities to expand information sharing and develop tools that address illegal fishing and seafood fraud at the state and local level.

Question: How can Federal enforcement agencies expand information sharing with state and local enforcement authorities?

12. Additional enforcement tools are needed by certain enforcement agencies to address growing concerns over IUU fishing and the entry of seafood products from IUU fishing into U.S. commerce including: Broader and clearer search and inspection authorities, investigative subpoena authority, increased penalties, and civil judicial enforcement mechanisms. Recommendation: Work with Congress to the extent necessary to broaden agency enforcement authorities, including those to (1) search, inspect and seize seafood, both at the point of entry into U.S. commerce (whether from foreign or domestic sources) and throughout the supply chain; and (2) pursue a full range of judicial enforcement options for trafficking and other violations related to IUU fishing and seafood fraud.

Partnerships: Create Partnerships With Industry and Non-Governmental Organizations To Identify and Eliminate Seafood Fraud and IUU Seafood in U.S. Commerce

13. Private and public sector partnerships are essential to preventing and reducing the entry of fraudulent seafood products and products from IUU fishing into U.S. commerce. Recommendation: Direct the Task Force to establish a regular forum with harvesters, importers, dealers, retailers, processors and non-governmental organizations to enhance collaboration in combating IUU fishing and seafood fraud and to improve understanding of the levels and nature of IUU fishing and seafood fraud and related criminal activities.

Traceability: Create a Risk-Based Traceability Program To Track Seafood From Harvest to Entry Into U.S. Commerce

14. It is in the national interest to prevent the entry of illegal goods, including illegal seafood into U.S. commerce. Creating an information system that better facilitates data collection, sharing, and analysis among relevant regulators and enforcement authorities would be a significant step forward in addressing IUU fishing and seafood fraud. To that end, the United States should work with industry and other stakeholders to define the types of information to be collected regarding seafood sold in the United States and the operational standards to be applied to the collection, retention, and transmission of such information. The information collected could include:

• Who harvested or produced the fish (e.g. name and flag State of harvesting vessel and/or farm facility, type of fishing gear)?

• What species was harvested (e.g. species name, form, and quantity of the product)?

• Where and when was the seafood harvested and landed (e.g. ocean area of catch, farm location, date of harvest, date/point of first landing)?

• Other relevant details, such as transshipment and/or processing activity.

The process to develop types of information and operational standards under each of the categories above should allow for input from interested stakeholders including industry, non-governmental organizations, supply-chain experts, and state, local and foreign governments. It should also draw upon and utilize applicable experience, best practices, and existing standards where possible. This program should be developed in a way that permits all authorized agencies to enter, analyze, use, and verify the data while still protecting information consistent with statutory authorities. The types of information and operational standards should apply no less favorably as between domestic and imported products. Recommendation: Direct the Task Force, with input from U.S. industry and other stakeholders, to identify and develop within six months a list of the types of information and operational standards needed for an effective seafood traceability program to combat seafood fraud and IUU seafood in U.S. commerce.

Question: Accounting for those listed above, what types of information and operational standards should be included in a traceability program?

15. Following Recommendation #14, a program will be developed and implemented to establish these types of information and operational standards as pre-requisites for entry into commerce. The program will initially be applied to certain fish or seafood that are of particular concern because they are subject to significant seafood fraud or because they are at significant risk of being caught by IUU fishing. However, the goal would be to eventually expand the program to all seafood at first point of sale or import, after consideration of relevant factors such as input from stakeholders and cost-effectiveness. To achieve this:

a. The Secretaries of Commerce, Health and Human Services, State, and any other relevant agencies will identify certain species of fish or seafood that are of particular concern because they are subject to significant seafood fraud or because they are at significant risk of being caught by IUU fishing. The Secretaries of Homeland Security, HHS, and Commerce, and other agencies, as appropriate, will work together to implement Recommendation #14 requirements for the collection of relevant and necessary data from, and compliance with operational standards by, importers of these identified species, as consistent with existing authorities.

b. The Secretaries of Commerce and Health and Human Services will then work with the Regional Fishery Management Councils, states, and other partners to require this same information from these identified species when they are domestically harvested or produced.

c. Information collected will be shared among Federal administrative and law enforcement agencies for analysis and other relevant actions to prevent IUU or fraudulently labeled seafood from entering U.S. commerce pursuant to the strategy developed by the Secretaries of Agriculture, Commerce, Health and Human Services, Homeland Security, and the Interior, and the Attorney General (Recommendation #8).

d. The Secretary of Homeland Security will collaborate with the Secretary of Commerce and other agencies as relevant to assist in developing a voluntary Commerce Trusted Trader Program for importers of these identified species. The Program will provide benefits such as reduced targeting and inspections and enhanced streamlined entry into the United States for certified importers.

e. Implementation of this risk-based traceability program will be evaluated regularly, beginning within one year of requiring the types of information for at-risk species, to identify whether it is meeting the intended objectives in the most effective way possible, while considering costs and benefits. The Task Force will consider the next steps in expanding the program to other seafood entering U.S. commerce. This evaluation will include input from stakeholders and identify any additional resources or legal authorities that may be necessary to cover additional species and types of product, and to make the information available to the consumer.

f. Within one year of requiring the types of information for at-risk species, the Task Force will develop further recommendations on how certain types of information within the traceability system (e.g. species; geographic origin; means of production, such as wild-caught versus aquaculture; and gear type) could be made available to the consumer.

Recommendation: Direct the Task Force to establish, within 18 months, the first phase of a risk-based traceability program to track seafood from point of harvest to entry into the U.S. commerce.

Questions for Recommendation #15:

(a) Which species are currently at highest risk of IUU fishing and seafood fraud and what factors contribute to species becoming at high risk in the future?

(b) What are the specific characteristics and workings of the global seafood supply chain that should be taken into account when requiring information?

(c) What are the best approaches for expanding the risk-based program to incorporate other fish and seafood products entering into U.S. commerce?

(d) How often should the risk-based program be evaluated?

(e) What roles should government and private sectors serve in managing and evaluating the program?

Reporting: Where a timeframe is not specifically noted under a recommendation, the relevant agencies will report to the Task Force on the progress of implementing that recommendation in one year from receiving guidance from the President. In addition, recognizing that a valuable and extensive body of information on fisheries and seafood products would be created by the recommendations above, the Task Force will report annually to the President, via the National Ocean Council, on seafood trends, key issues related to IUU fishing and seafood fraud, and progress on development and implementation of a comprehensive and risk-based traceability program.

Dated: December 15, 2014.
Samuel D. Rauch III,
Deputy Assistant Administrator for Regulatory Programs, National Marine Fisheries Service.

[FR Doc. 2014-29628 Filed 12-16-14; 8:45 am]

BILLING CODE 3510-22-P